NUCLEAR REGULATORY COMMISSION

Advisory Committee on Reactor Safeguards (ACRS); Subcommittee Meeting on Materials, Metallurgy, and Reactor Fuels; Postponed

The ACRS Subcommittee meeting on Materials, Metallurgy, and Reactor Fuels scheduled to be held on February 22, 2007, Room T-2B3, 11545 Rockville Pike, Rockville, Maryland has been postponed. Notice of this meeting was published on Wednesday, January 31, 2007 (72 FR 4537). Rescheduling of this meeting will be announced in a future Federal Register Notice.

For future information contact: Mr. Ralph Caruso, cognizant ACRS staff engineer (telephone 301/415-8065) between 7:15 a.m. and 5 p.m. (ET) or by e-mail rxc@nrc.gov.

Dated: February 8, 2007.
David C. Fischer,
Acting Branch Chief, ACRS/ACNW.

[FR Doc. E7-2620 Filed 2-14-07; 8:45 am]

BILLING CODE 7590-01-P